DEPARTMENT OF ENERGY

[OE Docket No. EA-455]

Application To Export Electric Energy; NS Power Energy Marketing Incorporated

AGENCY: Office of Electricity, DOE.

ACTION: Notice of application.

SUMMARY: NS Power Energy Marketing Incorporated (NSP Marketing or Applicant) has applied for authorization to transmit electric energy from the United States to Canada pursuant to the Federal Power Act.

DATES: Comments, protests, or motions to intervene must be submitted on or before August 20, 2018.

ADDRESSES: Comments, protests, motions to intervene, or requests for more information should be addressed to: Office of Electricity, Mail Code: OE-20, U.S. Department of Energy, 1000 Independence Avenue SW, Washington, DC 20585-0350. Because of delays in handling conventional mail, it is recommended that documents be transmitted by overnight mail, by electronic mail to Electricity.Exports@hq.doe.gov, or by facsimile to 202-586-8008.

SUPPLEMENTARY INFORMATION: Exports of electricity from the United States to a foreign country are regulated by the Department of Energy (DOE) pursuant to sections 301(b) and 402(f) of the Department of Energy Organization Act (42 U.S.C. 7151(b) and 7172(f)) and require authorization under section 202(e) of the Federal Power Act (16 U.S.C. 824a(e)).

On June 28, 2018, DOE received an application from NSP Marketing for authorization to transmit electric energy from the United States to Canada as a power marketer for a five-year term using existing international transmission facilities. NSP Marketing will be seeking market-based rate authority from the Federal Energy Regulatory Commission (FERC).

In its application, NSP Marketing states that it “does not own or control any electric power generation or transmission facilities and does not have a franchised electric power service area.” The electric energy that the Applicant proposes to export to Canada would be surplus energy purchased from third parties such as electric utilities and other suppliers within the United States pursuant to voluntary agreements. The existing international transmission facilities to be utilized by the Applicant have previously been authorized by Presidential Permits issued pursuant to Executive Order 10485, as amended, and are appropriate for open access transmission by third parties.

Procedural Matters: Any person desiring to be heard in this proceeding should file a comment or protest to the application at the address provided above. Protests should be filed in accordance with Rule 211 of the Federal Energy Regulatory Commission's Rules of Practice and Procedure (18 CFR 385.211). Any person desiring to become a party to these proceedings should file a motion to intervene at the above address in accordance with FERC Rule 214 (18 CFR 385.214). Five (5) copies of such comments, protests, or motions to intervene should be sent to the address provided above on or before the date listed above.

Comments and other filings concerning NSP Marketing's application to export electric energy to Canada should be clearly marked with OE Docket No. EA-455. An additional copy is to be provided to both Matt Clarke, Nova Scotia Power, 1223 Lower Water St., Halifax, NS B3J 3S8 Canada, and Bonnie A. Suchman, Suchman Law LLC, 8104 Paisley Place, Potomac, MD 20854.

A final decision will be made on this application after the environmental impacts have been evaluated pursuant to DOE's National Environmental Policy Act Implementing Procedures (10 CFR part 1021) and after a determination is made by DOE that the proposed action will not have an adverse impact on the sufficiency of supply or reliability of the U.S. electric power supply system.

Copies of this application will be made available, upon request, for public inspection and copying at the address provided above, by accessing the program website at http://energy.gov/node/11845, or by emailing Angela Troy at Angela.Troy@hq.doe.gov.

Issued in Washington, DC, on July 13, 2018.
Christopher Lawrence,
Electricity Policy Analyst, Office of Electricity.

[FR Doc. 2018-15580 Filed 7-19-18; 8:45 am]

BILLING CODE 6450-01-P